NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on December 7-10, 2005, 11545 Rockville Pike, Rockville, Maryland. The date of this meeting was previously published in the Federal Register on Wednesday, November 24, 2004 (69 FR 68412).

Wednesday, December 7, 2005, Conference Room T-2B3, Two White Flint North, Rockville, Maryland

1 p.m.-1:05 p.m.: Opening Remarks by the ACRS Chairman (Open)—The ACRS Chairman will make opening remarks regarding the conduct of the meeting.

1:05 p.m.-3 p.m.: Final Review of the Vermont Yankee Extended Power Uprate Application and the Associated Safety Evaluation (Open)—The Committee will hear presentations by and hold discussions with representatives of the Entergy Nuclear Operations, Inc. and the NRC staff regarding the 20% power uprate application for the Vermont Yankee Nuclear Plant and the NRC staff's associated Safety Evaluation.

3:30 p.m.-5:30 p.m.: Draft ACRS report on the NRC Safety Research Program (Open)—The Committee will discuss the draft ACRS report to the Commission on the NRC Safety Research Program.

5:45 p.m.-6:45 p.m.: Preparation for Meeting with the NRC Commissioners (Open)—The Committee will discuss the topics scheduled for discussion with the NRC Commissioners between 1 and 3 p.m. on Thursday, December 8, 2005.

Thursday, December 8, 2005, Conference Room T-2B3, Two White Flint North, Rockville, Maryland

8:30 a.m.-8:35 a.m.: Opening Remarks by the ACRS Chairman (Open)—The ACRS Chairman will make opening remarks regarding the conduct of the meeting.

8:35 a.m.-10 a.m.: Early Site Permit Application for the Grand Gulf Nuclear Station and the Associated Final Safety Evaluation Report (Open)—The Committee will hear presentations by and hold discussions with representatives of the System Energy Resources, Inc. and the NRC staff regarding the early site permit application for the Grand Gulf Nuclear Station and the associated final Safety Evaluation Report prepared by the NRC staff.

10:15 a.m.-11:45 a.m.: Draft Final Generic Letter, “Impact of Potentially Degraded Hemyc/MT Fire Barrier Materials on Compliance with Fire Protection Regulations” (Open )—The Committee will hear presentations by and hold discussions with representatives of the NRC staff regarding the draft final Generic Letter on “Impact of Potentially Degraded Hemyc/MT Fire Barrier Materials on Compliance with Fire Protection Regulations” and a summary of the NRC staff's resolution of public comments received on the public comment version of this Generic Letter.

1 p.m.-3 p.m.: Meeting with the NRC Commissioners, Commissioners' Conference Room, One White Flint North, Rockville, MD (Open)—The Committee will meet with the NRC Commissioners to discuss the following topics: Overview by the ACRS Chairman (License Renewal, Early Site Permits, and Future ACRS Activities); Issues Related to New Plant Licensing (including Technology Neutral Framework); Proposed Alternative Embrittlement Criteria in 10 CFR 50.46; Fire Protection Matters; and Power Uprate Technical Issues.

3:30 p.m.-5 p.m.: Proposed Program Plan and Advance Notice of Proposed Rulemaking for Risk-Informing 10 CFR Part 50 (Open)—The Committee will hear presentations by and hold discussions with representatives of the NRC staff regarding the proposed Program Plan and the Advance Notice of Proposed Rulemaking for Risk-Informing 10 CFR Part 50, and related matters.

5:15 p.m.-7 p.m.: Preparation of ACRS Reports (Open)—The Committee will discuss proposed ACRS reports on matters considered during this meeting.

Friday December 9, 2005, Conference Room T-2B3, Two White Flint North, Rockville, Maryland

8:30 a.m.-8:35 a.m.: Opening Remarks by the ACRS Chairman (Open)—The ACRS Chairman will make opening remarks regarding the conduct of the meeting.

8:35 a.m.-10 a.m.: Staff Activities Associated with Responding to the Commission's Staff Requirements Memorandum (SRM) Related to Safety Conscious Work Environment and Safety Culture (Open)—The Committee will hear presentations by and hold discussions with representatives of the NRC staff regarding staff activities associated with responding to the Commission's SRM related to safety conscious work environment and safety culture, and related matters.

10:15 a.m.-11:15 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

11:15 a.m.-11:30 a.m.: Reconciliation of ACRS Comments and Recommendations (Open)—The Committee will discuss the responses from the NRC Executive Director for Operations to comments and recommendations included in recent ACRS reports and letters.

11:30 a.m.-12 Noon: Election of ACRS Officers for CY 2006 (Open)—The Committee will elect Chairman and Vice Chairman for the ACRS and Member-at-Large for the Planning and Procedures Subcommittee for CY 2006.

1:30 p.m.-3:30 p.m.: Draft ACRS Report on the NRC Safety Research Program (Open)—The Committee will discuss the draft ACRS report to the Commission on the NRC Safety Research Program.

3:45 p.m.-6:45 p.m.: Preparation of ACRS Reports (Open)—The Committee will discuss proposed ACRS reports.

Saturday, December 10, 2005, Conference Room T-2B3, Two White Flint North, Rockville, Maryland

8:30 a.m.-12:30 p.m.: Preparation of ACRS Reports (Open)—The Committee will continue its discussion of proposed ACRS reports.

12:30 p.m.-p.m.: Miscellaneous (Open)—The Committee will discuss matters related to the conduct of Committee activities and matters and specific issues that were not completed during previous meetings, as time and availability of information permit.

Procedures for the conduct of and participation in ACRS meetings were published in the Federal Register on September 29, 2005 (70 FR 56936). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., e.t.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., e.t., at least 10 days before the meeting to ensure the availability of this service. Individuals or organizations requesting this service will be responsible for telephone line charges and for providing the equipment and facilities that they use to establish the videoteleconferencing link. The availability of videoteleconferencing services is not guaranteed.

The ACRS meeting dates for Calendar Year 2006 are provided below:

ACRS meeting No. | Meeting dates
| January 2006 (No Meeting).
529 | February 9-11, 2006.
530 | March 9-11, 2006.
531 | April 6-8, 2006.
532 | May 4-6, 2006.
533 | May 31—June 1-2, 2006.
534 | July 12-14, 2006.
| August 2006 (No Meeting).
535 | September 7-9, 2006.
536 | October 4-6, 2006.
537 | November 1-3, 2006.
538 | December 7-9, 2006.

Dated: November 16, 2005.
Andrew L. Bates,
Advisory Committee Management Officer.

[FR Doc. E5-6412 Filed 11-21-05; 8:45 am]

BILLING CODE 7590-01-P